DEPARTMENT OF HEALTH AND HUMAN SERVICES

Substance Abuse and Mental Health Services Administration

Current List of Laboratories Which Meet Minimum Standards To Engage in Urine Drug Testing for Federal Agencies

AGENCY: Substance Abuse and Mental Health Services Administration, HHS.

ACTION: Notice.

SUMMARY: The Department of Health and Human Services (HHS) notifies Federal agencies of the laboratories currently certified to meet the standards of Subpart C of the Mandatory Guidelines for Federal Workplace Drug Testing Programs (Mandatory Guidelines). The Mandatory Guidelines were first published in the Federal Register on April 11, 1988 (53 FR 11970), and subsequently revised in the Federal Register on June 9, 1994 (59 FR 29908), on September 30, 1997 (62 FR 51118), and on April 13, 2004 (69 FR 19644).

A notice listing all currently certified laboratories is published in the Federal Register during the first week of each month. If any laboratory's certification is suspended or revoked, the laboratory will be omitted from subsequent lists until such time as it is restored to full certification under the Mandatory Guidelines.

If any laboratory has withdrawn from the HHS National Laboratory Certification Program (NLCP) during the past month, it will be listed at the end, and will be omitted from the monthly listing thereafter.

This notice is also available on the Internet at http://workplace.samhsa.gov and http://www.drugfreeworkplace.gov.

FOR FURTHER INFORMATION CONTACT: Mrs. Giselle Hersh or Dr. Walter Vogl, Division of Workplace Programs, SAMHSA/CSAP, Room 2-1035, 1 Choke Cherry Road, Rockville, Maryland 20857; (240) 276-2600 (voice), (240) 276-2610 (fax).

SUPPLEMENTARY INFORMATION: The Mandatory Guidelines were developed in accordance with Executive Order 12564 and section 503 of Public Law 100-71. Subpart C of the Mandatory Guidelines, “Certification of Laboratories Engaged in Urine Drug Testing for Federal Agencies,” sets strict standards that laboratories must meet in order to conduct drug and specimen validity tests on urine specimens for Federal agencies. To become certified, an applicant laboratory must undergo three rounds of performance testing plus an on-site inspection. To maintain that certification, a laboratory must participate in a quarterly performance testing program plus undergo periodic, on-site inspections.

Laboratories which claim to be in the applicant stage of certification are not to be considered as meeting the minimum requirements described in the HHS Mandatory Guidelines. A laboratory must have its letter of certification from HHS/SAMHSA (formerly: HHS/NIDA) which attests that it has met minimum standards.

In accordance with Subpart C of the Mandatory Guidelines dated April 13, 2004 (69 FR 19644), the following laboratories meet the minimum standards to conduct drug and specimen validity tests on urine specimens:

ACL Laboratories

8901 W. Lincoln Ave.

West Allis, WI 53227

414-328-7840/800-877-7016

(Formerly: Bayshore Clinical Laboratory).

ACM Medical Laboratory, Inc.

160 Elmgrove Park

Rochester, NY 14624

585-429-2264.

Advanced Toxicology Network

3560 Air Center Cove, Suite 101

Memphis, TN 38118

901-794-5770/888-290-1150.

Aegis Analytical Laboratories, Inc.

345 Hill Ave.

Nashville, TN 37210

615-255-2400.

Baptist Medical Center-Toxicology Laboratory

9601 I-630, Exit 7

Little Rock, AR 72205-7299

501-202-2783

(Formerly: Forensic Toxicology Laboratory Baptist Medical Center).

Clinical Reference Lab

8433 Quivira Road

Lenexa, KS 66215-2802

800-445-6917.

Diagnostic Services, Inc., dba DSI

12700 Westlinks Drive

Fort Myers, FL 33913

239-561-8200/800-735-5416.

Doctors Laboratory, Inc.

2906 Julia Drive

Valdosta, GA 31602

229-671-2281.

DrugScan, Inc.

P.O. Box 2969

1119 Mearns Road

Warminster, PA 18974

215-674-9310.

Dynacare Kasper Medical Laboratories*

10150-102 St., Suite 200

Edmonton, Alberta

Canada T5J 5E2

780-451-3702/800-661-9876.

ElSohly Laboratories, Inc.

5 Industrial Park Drive

Oxford, MS 38655

662-236-2609.

Express Analytical Labs

3405 7th Ave., Suite 106

Marion, IA 52302

319-377-0500.

Gamma-Dynacare Medical Laboratories*

A Division of the Gamma-Dynacare

Laboratory Partnership

245 Pall Mall Street

London, ONT, Canada N6A 1P4

519-679-1630.

General Medical Laboratories

36 South Brooks St.

Madison, WI 53715

608-267-6225.

LabOne, Inc.

10101 Renner Blvd.

Lenexa, KS 66219

913-888-3927/800-873-8845

(Formerly: Center for Laboratory Services, a Division of LabOne, Inc.).

Laboratory Corporation of America Holdings

7207 N. Gessner Road

Houston, TX 77040

713-856-8288/800-800-2387.

Laboratory Corporation of America Holdings

69 First Ave.

Raritan, NJ 08869

908-526-2400/800-437-4986

(Formerly: Roche Biomedical Laboratories, Inc.).

Laboratory Corporation of America Holdings

1904 Alexander Drive

Research Triangle Park, NC 27709

919-572-6900/800-833-3984

(Formerly: LabCorp Occupational Testing Services, Inc., CompuChem Laboratories, Inc.; CompuChem Laboratories, Inc., A Subsidiary of Roche Biomedical Laboratory; Roche CompuChem Laboratories, Inc., A Member of the Roche Group).

Laboratory Corporation of America Holdings

10788 Roselle St.

San Diego, CA 92121

800-882-7272

(Formerly: Poisonlab, Inc.).

Laboratory Corporation of America Holdings

550 17th Ave., Suite 300

Seattle, WA 98122

206-923-7020 / 800-898-0180

(Formerly: DrugProof, Division of Dynacare/Laboratory of Pathology, LLC; Laboratory of Pathology of Seattle, Inc.; DrugProof, Division of Laboratory of Pathology of Seattle, Inc.).

Laboratory Corporation of America Holdings

1120 Main Street

Southaven, MS 38671

866-827-8042 / 800-233-6339

(Formerly: LabCorp Occupational Testing Services, Inc.; MedExpress/National Laboratory Center).

Marshfield Laboratories

Forensic Toxicology Laboratory

1000 North Oak Ave.

Marshfield, WI 54449

715-389-3734 / 800-331-3734.

MAXXAM Analytics Inc.*

6740 Campobello Road

Mississauga, ON

Canada L5N 2L8

905-817-5700

(Formerly: NOVAMANN (Ontario), Inc.).

MedTox Laboratories, Inc.

402 W. County Road D

St. Paul, MN 55112

651-636-7466 / 800-832-3244.

MetroLab-Legacy Laboratory Services

1225 NE 2nd Ave.

Portland, OR 97232

503-413-5295 / 800-950-5295.

Minneapolis Veterans Affairs Medical Center

Forensic Toxicology Laboratory

1 Veterans Drive

Minneapolis, MN 55417

612-725-2088.

National Toxicology Laboratories, Inc.

1100 California Ave.

Bakersfield, CA 93304

661-322-4250 / 800-350-3515.

Northwest Toxicology, a LabOne Company

2282 South Presidents Drive, Suite C

West Valley City, UT 84120

801-606-6301 / 800-322-3361

(Formerly: LabOne, Inc., dba Northwest Toxicology; NWT Drug Testing, NorthWest Toxicology, Inc.; Northwest Drug Testing, a division of NWT Inc.).

One Source Toxicology Laboratory, Inc.

1213 Genoa-Red Bluff

Pasadena, TX 77504

888-747-3774

(Formerly: University of Texas Medical Branch, Clinical Chemistry Division; UTMB Pathology-Toxicology Laboratory).

Oregon Medical Laboratories

P.O. Box 972

722 East 11th Ave.

Eugene, OR 97440-0972

541-687-2134.

Pacific Toxicology Laboratories

9348 DeSoto Ave.

Chatsworth, CA 91311

800-328-6942

(Formerly: Centinela Hospital Airport Toxicology Laboratory).

Pathology Associates Medical Laboratories

110 West Cliff Dr.

Spokane, WA 99204

509-755-8991 / 800-541-7897x7.

Physicians Reference Laboratory

7800 West 110th St.

Overland Park, KS 66210

913-339-0372 / 800-821-3627.

Quest Diagnostics Incorporated

3175 Presidential Dr.

Atlanta, GA 30340

770-452-1590 / 800-729-6432

(Formerly: SmithKline Beecham Clinical Laboratories; SmithKline Bio-Science Laboratories).

Quest Diagnostics Incorporated

4770 Regent Blvd.

Irving, TX 75063

800-824-6152

(Moved from the Dallas location on 03/31/01; Formerly: SmithKline Beecham Clinical Laboratories; SmithKline Bio-Science Laboratories).

Quest Diagnostics Incorporated

4230 South Burnham Ave., Suite 250

Las Vegas, NV 89119-5412

702-733-7866 / 800-433-2750

(Formerly: Associated Pathologists Laboratories, Inc.).

Quest Diagnostics Incorporated

400 Egypt Road

Norristown, PA 19403

610-631-4600 / 877-642-2216

(Formerly: SmithKline Beecham Clinical Laboratories; SmithKline Bio-Science Laboratories).

Quest Diagnostics Incorporated

506 E. State Pkwy.

Schaumburg, IL 60173

800-669-6995 / 847-885-2010

(Formerly: SmithKline Beecham Clinical Laboratories; International Toxicology Laboratories).

Quest Diagnostics Incorporated

7600 Tyrone Ave.

Van Nuys, CA 91405

818-989-2520 / 800-877-2520

(Formerly: SmithKline Beecham Clinical Laboratories).

Scientific Testing Laboratories, Inc.

450 Southlake Blvd.

Richmond, VA 23236

804-378-9130.

Sciteck Clinical Laboratories, Inc.

317 Rutledge Road

Fletcher, NC 28732

828-650-0409

S.E.D. Medical Laboratories

5601 Office Blvd.

Albuquerque, NM 87109

505-727-6300 / 800-999-5227.

South Bend Medical Foundation, Inc.

530 N. Lafayette Blvd.

South Bend, IN 46601

574-234-4176 x276.

Southwest Laboratories

4645 E. Cotton Center Boulevard

Suite 177

Phoenix, AZ 85040

602-438-8507 / 800-279-0027.

Sparrow Health System

Toxicology Testing Center, St. Lawrence Campus

1210 W. Saginaw

Lansing, MI 48915

517-364-7400

(Formerly: St. Lawrence Hospital & Healthcare System).

St. Anthony Hospital Toxicology Laboratory

1000 N. Lee St.

Oklahoma City, OK 73101

405-272-7052.

Toxicology & Drug Monitoring Laboratory

University of Missouri Hospital & Clinics

301 Business Loop 70 West, Suite 208

Columbia, MO 65203

573-882-1273.

Toxicology Testing Service, Inc.

5426 N.W. 79th Ave.

Miami, FL 33166

305-593-2260.

US Army Forensic Toxicology Drug Testing Laboratory

2490 Wilson St.

Fort George G. Meade, MD 20755-5235

301-677-7085.

As a result of hurricane Katrina, the following laboratory's certification is suspended because extensive damage to the New Orleans area has prevented the laboratory from testing specimens and fully participating in the National Laboratory Certification Program:

Kroll Laboratory Specialists, Inc.

1111 Newton St.

Gretna, LA 70053

504-361-8989 / 800-433-3823

(Formerly: Laboratory Specialists, Inc.).

* The Standards Council of Canada (SCC) voted to end its Laboratory Accreditation Program for Substance Abuse (LAPSA) effective May 12, 1998. Laboratories certified through that program were accredited to conduct forensic urine drug testing as required by U.S. Department of Transportation (DOT) regulations. As of that date, the certification of those accredited Canadian laboratories will continue under DOT authority. The responsibility for conducting quarterly performance testing plus periodic on-site inspections of those LAPSA-accredited laboratories was transferred to the U.S. HHS, with the HHS' NLCP contractor continuing to have an active role in the performance testing and laboratory inspection processes. Other Canadian laboratories wishing to be considered for the NLCP may apply directly to the NLCP contractor just as U.S. laboratories do.

Upon finding a Canadian laboratory to be qualified, HHS will recommend that DOT certify the laboratory (Federal Register, July 16, 1996) as meeting the minimum standards of the Mandatory Guidelines published in the Federal Register on April 13, 2004 (69 FR 19644). After receiving DOT certification, the laboratory will be included in the monthly list of HHS-certified laboratories and participate in the NLCP certification maintenance program.

Anna Marsh,
Director, Office Program Services, SAMHSA.

[FR Doc. 05-20488 Filed 10-11-05; 8:45 am]

BILLING CODE 4160-20-U